DEPARTMENT OF TRANSPORTATION

Federal Aviation Administration

Commercial Space Transportation Advisory Committee; Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of a teleconference of the Commercial Space Transportation Advisory Committee (COMSTAC). The teleconference will take place on Thursday, January 5, 2012, starting at 11 a.m. Eastern Standard Time. Individuals who plan to participate should contact Susan Lender, Designated Federal Officer (DFO), (the Contact Person listed below) by phone or email for the teleconference call in number. The proposed agenda for this teleconference is to review and accept a report providing input to the United Nations Office of Outer Space Affairs. This report summarizes industry input to the United Nations Committee on Peaceful Uses of Outer Space (UN COPOUS). COMSTAC members will receive a copy of the final report on approximately January 3, 2012. Members of the public may request a copy from Susan Lender, DFO (the Contact Person listed below).

Interested members of the public may submit relevant written statements for the COMSTAC members to consider under the advisory process. Statements may concern the issues and agenda items mentioned above or additional issues that may be relevant for the U.S. commercial space transportation industry. Interested parties wishing to submit written statements should contact Susan Lender, DFO, (the Contact Person listed below) in writing (mail or email) by December 29, 2011, so that the information can be made available to COMSTAC members for their review and consideration before the January 5, 2012, teleconference. Written statements should be supplied in the following formats: One hard copy with original signature or one electronic copy via email.

An agenda will be posted on the FAA Web site at http://www.faa.gov/go/ast.

Individuals who plan to participate and need special assistance should inform the Contact Person listed below in advance of the meeting.

FOR FURTHER INFORMATION CONTACT: Susan Lender (AST-5), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Issued in Washington, DC.
George C. Nield,
Associate Administrator for Commercial Space Transportation.

[FR Doc. 2011-32212 Filed 12-15-11; 8:45 am]

BILLING CODE 4910-13-P